OFFICE OF PERSONNEL MANAGEMENT

Submission for Review; New Information Collection: Freedom of Information/Privacy Act Record Request Form (INV 100)

AGENCY: U.S. Office of Personnel Management.

ACTION: 30-Day Notice and request for comments.

SUMMARY: Federal Investigative Services (FIS), U.S. Office of Personnel Management (OPM) offers the general public and other Federal agencies the opportunity to comment on a new information collection request (ICR), Office of Management and Budget (OMB) Control No. 3206-NEW, for the Freedom of Information/Privacy Act Record Request Form (INV 100). As required by the Paperwork Reduction Act of 1995, (Pub. L. 104-13, 44 U.S.C. chapter 35) as amended by the Clinger-Cohen Act (Pub. L. 104-106), OPM is soliciting comments for this collection. The Office of Management and Budget (OMB) is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 29, 2013. This process is conducted in accordance with 5 CFR 1320.1.

ADDRESSES: Interested persons are invited to submit written comments on the proposed information collection to the Office of Information and Regulatory Affairs, Office of Management and Budget, 725 17th Street NW., Washington, DC 20503, Attention: Desk Officer for the Office of Personnel Management, by email to oira_submission@opm.eop.gov or by fax to (202) 395-6974; and Federal Investigative Service, U.S Office of Personnel Management, 1900 E Street NW., Washington, DC 20415, Attention: Laura Eury or sent via email to FISFormsComments@opm.gov.

FOR FURTHER INFORMATION CONTACT: A copy of this ICR, with applicable supporting documentation, may be obtained by contacting OPM by mail at Federal Investigative Services, U.S. Office of Personnel Management, 1900 E Street NW., Washington, DC 20415, Attention: Laura Eury, or by email to FISFormsComments@opm.gov.

SUPPLEMENTARY INFORMATION: OPM's Federal Investigative Services (FIS), Freedom of Information and Privacy Act (FOI/PA) office proposes use of this optional form (INV 100) to standardize collection of data elements specific to FOIA and Privacy Act record requests submitted to FIS. Current FOIA and Privacy Act record requests are submitted to FIS-FOI/PA in a format chosen by the requester, yet consistent with the published regulations at 5 CFR 294 and 5 CFR 297, respectively. Often the requests are missing data elements that require contact with the requester by mail, thereby adding time to the process. Standardization of the access process will increase the volume of perfected requests received. This will strike an appropriate balance between the public's burden in submitting requests and FIS-FOI/PA's ability to accurately identify sought records and to verify the identity of the Privacy Act requester, ensuring that protected records are not inappropriately released to third parties. It is estimated that 16,626 individuals will respond annually. The INV 100 takes approximately 5 minutes to complete. The estimated annual burden is 1,386 hours.

The 60-day Federal Register Notice was published in the Federal Register on August 31, 2012, (Federal Register Notices/Vol. 77, Number 170, pages 53237-53238) as required by 5 CFR 1320, affording the public an opportunity to comment on the form. Four comments were received from the National Archives and Records Administration's (NARA) Office of Government Information Services (OGIS), recommending verbiage clarity in Section 5-7. OGIS recommended that in Section 5, which is optional, OPM should provide an example of an instance where the requester would want to complete this section. OPM added the OGIS suggested verbiage “By completing this section, you authorize information relating to you to be released to another person, such as a family member or legal counsel.” OGIS recommended that in Section 6, Verification of Requester's Identity, OPM should change the verbiage, for clarity, from “the person named above” to “the person named in Section 2.” OPM accepted the comment and changed the verbiage. OGIS recommended that in Section 7, because a requester is generally not required to state the purpose of his or her request, OPM replace the introductory sentence to state, “In the box below, you may wish to provide information about yourself and the purpose of your request to help us determine your fee category. While FOIA does not require a requester to state the purpose of a request, fees may be reduced based on the nature of the requester or purpose of the request.” OPM accepted the comment and changed the verbiage. OGIS further recommended a rewrite in Section 7 to state, “I request a waiver or reduction of fees because I am (check one of the three options listed below):” so requesters may check all of the options that apply. This will provide clarity because fee waivers are different from fee categories, and the two are not mutually exclusive. OPM accepted the comment and changed the verbiage to state, “I request a waiver or reduction of fees because I am (check all options listed below that apply):”.

U.S. Office of Personnel Management.
John Berry,
Director.

[FR Doc. 2013-07202 Filed 3-27-13; 8:45 am]

BILLING CODE 6325-53-P